DEPARTMENT OF VETERANS AFFAIRS

Privacy Act of 1974, Amendment of Three Systems of Records

ACTION: Notice.

SUMMARY: As required by the Privacy Act of 1974, 5 U.S.C. 552a(e), notice is hereby given that the Department of Veterans Affairs (VA) proposes amending three existing systems of records (44VA01, 58VA21/22 and 81VA01) to: (1) Amend a routine use in one system (44VA01) to clarify that information released under the routine use is at VA's initiative and that certain names and address are released only to Federal law enforcement entities under the routine use; (2) add a routine use relating to release of information about representative misconduct to each of the systems; (3) amend two of the systems (58VA21/22 and 81VA01) to clarify what individuals are covered by the systems; (4) add a statement of purpose to each of the systems; and (5) to update information such as citations and contact information in each of the systems.

DATES: The proposed amendments will be effective 30 calendar days from the date this publication, September 13, 2001, unless comments are received before this date which would result in a contrary determination.

ADDRESSES: Mail or hand-deliver written comments to: Director, Office of Regulations Management (02D), Department of Veterans Affairs, 810 Vermont Ave., NW, Room 1154, Washington, DC 20420; or fax comments to (202) 273-9289; or e-mail comments to “OGCRegulations@mail.va.gov”. All relevant material received before October 15, 2001, will be considered. All comments received will be available for public inspection in the Office of Regulations Management, Room 1158, between the hours of 8:00 a.m. and 4:30 p.m., Monday through Friday (except holidays).

FOR FURTHER INFORMATION CONTACT: Steven L. Keller, Senior Deputy Vice Chairman, Board of Veterans' Appeals (012), Department of Veterans Affairs, 810 Vermont Avenue, NW, Washington, DC 20420, (202) 565-5978.

SUPPLEMENTARY INFORMATION: VA provides benefits and services to many of America's approximately 25 million living veterans, as well as to veterans' survivors and dependents.

Amendment of Routine Use: VA proposes 2 amendments to routine use number 2 in system of records 44VA01. This routine use concerns referral of agency records showing violation of law to law enforcement authorities. One amendment clarifies that the referral referenced is referral on VA's initiative. In addition to requirements of the Privacy Act, 5 U.S.C. 552a, VA must comply with information disclosure limitations in 38 U.S.C. 5701 which, among other things, restrict release of the names and address of veterans and their dependents. The second proposed amendment to this routine use clarifies that, except for referral to other Federal entities, the information referred under this routine use does not include such names and addresses.

Additional Routine Use: Claimants for VA benefits are entitled to representation throughout the VA claims adjudication process. VA regulates representatives appearing in VA claims matters to promote representational competency and the ethical treatment of represented VA claimants. See generally 38 U.S.C. 5901-05; 38 CFR 14.626-.643, 20.600-.610.

In the great majority of cases, representational services are ably provided by well-trained, responsible representatives of State and national veterans' service organizations, agents recognized by VA as qualified to act as representatives, attorneys-at-law and others. Occasionally, however, representatives may engage in unethical or illegal conduct; for example by charging fees where none are authorized by law, willfully and deliberately violating agency rules of practice and procedure, or defrauding VA claimants.

The routine use added to these three systems of records would permit VA to disclose information in its files concerning a representative's misconduct to Federal, State, or local law enforcement authorities and to authorities responsible for the professional licensing and discipline of representatives, such as State or local bar associations.

Changes to update these systems: System 44VA01 already provides that representatives are included in the categories of individuals covered by the system. These amendments clarify that that is also true of systems 58VA21/22 and 81VA01.

The Office of the Federal Register of the National Archives and Records Administration now includes “Purpose(s)” among the required data elements in published systems of records notices. These amendments add purpose sections to each of the three systems amended.

Citations to title 38, United States Code, have been revised throughout to reflect renumbering of that title that occurred after these systems were originally established. A citation to 42 U.S.C. 209dd-3 and 290ee-3 has been removed from a note in 44VA01. The note concerns special protection afforded by 38 U.S.C. 7332 (formerly § 4132) to records concerning drug abuse, alcoholism or alcohol abuse, infection with the human immunodeficiency virus or sickle cell anemia. The cited title 42 provisions were the authority for regulations of the Secretary of Health and Human Services concerning the confidentiality of alcohol and drug abuse patient records which VA followed prior to the adoption of its own regulations at 38 CFR 1.460-.494. For additional information, see 60 FR 63926 (1995).

Finally, these proposed amendments update addresses and telephone numbers that have changed since notices of these systems were published.

VA has determined that release of information under circumstances such as those described above is a necessary and proper use of information in these systems of records and that the specific routine use proposed for the transfer of this information is appropriate.

The systems of records VA proposes to amend, which are contained in the Federal Register at the pages indicated, are:

44VA01, Veterans Appellate Records System-VA, established at 40 FR 38095 (8/26/75) and amended at 56 FR 15663 (4/17/91) and 63 FR 37941 (7/14/98).

58VA21/22, Compensation, Pension, Education and Rehabilitation Records—VA, established at 41 FR 9294 (3/3/76) and last amended at 63 FR 37941 (7/14/98) and 65 FR 37605 (6/15/00), with other amendments as cited therein.

81VA01, Representatives' Fee Agreement Records System—VA, established at 56 FR 18874 (4/24/91) and amended at 57 FR 8792 (3/12/92) and 63 FR 37941 (7/14/98).

A “Report of Altered System” and an advance copy of the revised system have been sent to the chairmen and ranking members of the Committee on Governmental Reform of the House of Representatives and the Committee on Governmental Affairs of the Senate, and to the Office of Management and Budget, as required by 5 U.S.C. 552a(o) (Privacy Act) and guidelines issued by the Office of Management and Budget.

Approved: August 27, 2001.
Anthony J. Principi,
Secretary of Veterans Affairs.

Notice of Amendment of Systems of Records

1. In the system identified as 44VA01, “Veterans Appellate Records System—VA”, established at 40 FR 38095 (8/26/75) and amended at 56 FR 15663 (4/17/91) and 63 FR 37941 (7/14/98), authority citations are updated, a routine use is amended, a purpose section and a routine use are added, and telephone and address information are updated as follows:

44VA01

System name:

Veterans Appellate Records System—VA.

System location:

Board of Veterans' Appeals, Department of Veterans Affairs, 810 Vermont Avenue, NW., Washington, DC, 20420, and its contractor, Promisel & Korn, Inc., 7012 West Greenvale Parkway, Chevy Chase, MD 20815.

* * * * *

Authority for Maintenance of the System:

38 U.S.C. 7101(a), 7104; 5 U.S.C. 552.

Purpose(s):

Initial decisions on claims for Federal veterans' benefits are made at VA field offices throughout the nation. Claimants may appeal those decisions to the Board of Veterans' Appeals. See 38 U.S.C. Chapter 71. The Board gathers, or creates, these records in carry out its appellate functions.

Routine uses of records maintained in the system, including categories of users and the purposes of such uses:

* * * * *

2. In the event that a system of records maintained by this agency to carry out its functions indicates a violation or potential violation of law, whether civil, criminal or regulatory in nature, and whether arising by general statute or particular program statute, or by regulation, rule or order issued pursuant thereto, VA may refer the relevant records in the system of records, as a routine use, to the appropriate agency, whether Federal, State, local or foreign, charged with the responsibility of investigating or prosecuting such violation or charged with enforcing or implementing the statute, or rule, regulation or order issued pursuant thereto. Names and home addresses of veterans and their dependents will be released on VA's initiative under this routine use only to Federal entities.

* * * * *

7. Where VA determines that there is good cause to question the legality or ethical propriety of the conduct of a person or organization representing a person in a matter before VA, a record from this system may be disclosed, on VA's initiative, to any or all of the following: (1) Applicable civil or criminal law enforcement authorities and (2) a person or entity responsible for the licensing, supervision, or professional discipline of the person or organization acting as representative. Names and home addresses of veterans and their dependents will be released on VA's initiative under this routine use only to Federal entities.

Note: Any record maintained in this system of records which may include information relating to drug abuse, alcoholism or alcohol abuse, infection with the human immunodeficiency virus or sickle cell anemia will be disclosed pursuant to an applicable routine use for the system only when permitted by 38 U.S.C. 7332.

* * * * *

Record Access Procedure:

Individuals seeking information regarding access to information contained in this system of records may write, call or visit the Board of Veterans' Appeals Freedom of Information Act Officer whose address and telephone number are as follows: Freedom of Information Act Officer (01C1), Board of Veterans' Appeals, 810 Vermont Avenue, NW., Washington, DC 20420, (202) 565-9252.

* * * * *

2. In the system identified as 58VA21/22, “Compensation, Pension, Education and Rehabilitation Records—VA”, established at 41 FR 9294 (March 3, 1976) and last amended at 63 FR 37941 (7/14/98) and 65 FR 37605 (6/15/00), with other amendments as cited therein, the description of the categories of individuals covered by the system is amended, the authority for maintenance of the system is updated, and a purpose section and a routine use are added as follows:

58VA21/22

System name:

Compensation, Pension, Education and Rehabilitation Records—VA.

* * * * *

Categories of Individuals Covered by the System:

* * * * *

20. Representatives of individuals covered by the system.

* * * * *

Authority for Maintenance of the System:

Title 38, United States Code, section 501(a) and Chapters 11, 13, 15, 18, 23, 30, 31, 32, 34, 35, 36, 39, 51, 53, 55.

Purpose(s):

Veterans, and their survivors and dependents, file claims for a wide variety of Federal veterans' benefits administered by VA at VA facilities located throughout the nation. See the statutory provisions cited in “Authority for maintenance of the system.” VA gathers, or creates, these records in order to enable it to administer these statutory benefits programs.

Routine Uses of Records Maintained in the System, Including Categories of Users and the Purposes of Such Uses:

* * * * *

63. Where VA determines that there is good cause to question the legality or ethical propriety of the conduct of a person or organization representing a person in a matter before VA, a record from this system may be disclosed, on VA's initiative, to any or all of the following: (1) Applicable civil or criminal law enforcement authorities and (2) a person or entity responsible for the licensing, supervision, or professional discipline of the person or organization acting as representative. Names and home addresses of veterans and their dependents will be released on VA's initiative under this routine use only to Federal entities.

3. In the system identified as 81VA01 “Representatives’ Fee Agreement Records System—VA,” appearing at 56 FR 18874 (4/24/91) and amended at 57 FR 8792 (3/12/92) and 63 FR 37941 (7/14/98), the description of the categories of individuals covered by the system is amended, a purpose statement and a routine use are added, and contact information is updated as follows:

81VA01

System name:

Representatives' Fee Agreement Records System—VA.

* * * * *

Authority for maintenance of the system: * * *

Purpose(s):

Claims agents and attorneys-at-law who charge fees for representing veterans and their survivors and dependents in pursuing their claims for Federal veterans' benefits are required to file copies of their fee agreements with the Board. The Board, on its own motion or the motion of a party to the agreement, may then review the agreement and “may order a reduction in the fee called for in the agreement if the Board finds that the fee is excessive or unreasonable. 38 U.S.C. 5904(c)(2). The Board gathers, or creates, these records in order to enable it to carry out these fee agreement filing and review functions.

Categories of Individuals Covered by the System:

Persons seeking, receiving, or who have received benefits from the Department of Veterans Affairs who utilize the services of attorneys-at-law or accredited agents to represent them; such attorneys-at-law and accredited agents; and VA employees whose duties involve the processing of matters related to representatives' fee agreements.

* * * * *

Routine Uses of Records Maintained in the System, Including Categories of Users and the Purposes of Such Uses:

* * * * *

6. Where VA determines that there is good cause to question the legality or ethical propriety of the conduct of a person or organization representing a person in a matter before VA, a record from this system may be disclosed, on VA's initiative, to any or all of the following: (1) applicable civil or criminal law enforcement authorities and (2) a person or entity responsible for the licensing, supervision, or professional discipline of the person or organization acting as representative. Names and home addresses of veterans and their dependents will be released on VA's initiative under this routine use only to Federal entities.

* * * * *

Record Access Procedure:

Individuals seeking information regarding access to information contained in this system of records may write, call or visit the Board of Veterans' Appeals Freedom of Information Act Officer whose address and telephone number are as follows: Freedom of Information Act Officer (01C1), Board of Veterans' Appeals, 810 Vermont Avenue, NW, Washington, DC 20420, (202) 565-9252.

* * * * *

[FR Doc. 01-23042 Filed 9-12-01; 8:45 am]

BILLING CODE 8320-01-P